DEPARTMENT OF HEALTH AND HUMAN SERVICES

National Institutes of Health

National Center for Complementary & Alternative Medicine; Notice of Closed Meeting

Pursuant to section 10(d) of the Federal Advisory Committee Act, as amended (5 U.S.C. Appendix 2), notice is hereby given of a meeting of the Cancer Advisory Panel for Complementary and Alternative Medicine.

The meeting will be closed to the public in accordance with the provisions set forth in section 552b(c)(9)(B), Title 5 U.S.C., as amended because the premature disclosure of program documents—PAC and the discussions would likely to significantly frustrate implementation of recommendations.

Name of Committee: Cancer Advisory Panel for Complementary and Alternative Medicine.

Date: April 19, 2000.

Time: 2:30 PM to 5:00 PM.

Agenda: To review and evaluate the Gonzalez Regiment.

Place: National Institutes of Health, 9000 Rockville Pike, Bldg. 31, Room 5B5B, Bethesda, MD 20892, (Telephone Conference Call).

Contact Person: Richard Nahin, PhD, Executive Secretary, Cancer Advisory Panel for Complementary, and Alternative Medicine, NCCAM, NIH, 9000 Rockville Pike, Building 31, Room 5B37, Bethesda, MD 20892, 301-594-2013.

This notice is being published less than 15 days prior to the meeting due to the timing limitations imposed by the review and funding cycle.

Dated: April 6, 2000.
Anna Snouffer,
Acting Director, Office of Federal Advisory Committee Policy.

[FR Doc. 00-9436 Filed 4-14-00; 8:45 am]

BILLING CODE 4140-01-M